DEPARTMENT OF THE INTERIOR

Bureau of Reclamation

Colorado River, Notice of Opportunity for Input Regarding Recommendations and Determinations Authorized by 43 CFR Part 417, Imperial Irrigation District

AGENCY: Bureau of Reclamation, Interior.

ACTION: Notice.

SUMMARY: The implementation of the Department of the Interior's 43 CFR part 417 2003 calendar year determination with respect to the Imperial Irrigation District dated December 27, 2002 was enjoined by U.S. District Court Judge Thomas J. Whelan on March 18, 2003. Judge Whelan has vacated and remanded this decision to the Department of the Interior by order dated April 16, 2003. Through this notice, the Department of the Interior is initiating action to make recommendations and determinations authorized by 43 CFR part 417 with respect to the Imperial Irrigation District's water order regarding its use of Colorado River water for calendar year 2003. This notice provides addresses where information regarding the Department's analyses of this matter may be submitted, and provides an internet address where relevant information may be found.

DATES: The Regional Director will accept input on the issues addressed by this Federal Register notice for a period of 30 days following publication of this notice.

ADDRESSES: You may submit written comments to the Regional Director, Lower Colorado Region, Attention: Jayne Harkins, Bureau of Reclamation, PO Box 61470, Boulder City, Nevada 89006-1470. Information on this matter will be posted on the Bureau's Internet site at the following address: www.lc.usbr.gov/IID417.htm.

SUPPLEMENTARY INFORMATION: By order dated April 16, 2003, entered in Imperial Irrigation District v. The United States of America, Case No. 03 CV0069 W (JFS), the United States District Court for the Southern District of California has remanded the matter of the Imperial Irrigation District (IID)'s 2003 water order to the Bureau of Reclamation for a de novo (or “a new”) agency determination of IID's estimated water requirements for calendar year 2003 under 43 Code of Federal Regulations Part 417 (43 CFR part 417). The Part 417 process will be conducted as follows:

The Regional Director for the Lower Colorado Region (“Regional Director”) of the Bureau of Reclamation (“Reclamation”) will, by letters coincident with this Federal Register notice, notify IID and the State of California of the commencement of a de novo Part 417 consultation relating to the determination of Imperial Irrigation District's estimated water requirements for calendar year 2003.

Collection of Written Information

The Part 417 consultation will be conducted by the Regional Director through the collection of written information. The Regional Director will consider all materials submitted to the court in Imperial Irrigation District v. The United States of America, supra, including the Administrative Record and the declarations filed by individuals in that action. It will not be necessary for IID, the State of California or any other interested party to file with Reclamation as part of this Part 417 consultation any material which has been filed or lodged with the court in this case.

The Regional Director will also consider all relevant written information, comments and suggestions received by Reclamation from IID, the State of California or any other interested party within 30 days of the date of this notice. Timely written information, comments and suggestions which relate to the recommendations and determinations required of the Regional Director under 43 CFR 417.2 or to the factors listed in section 417.3 will be considered relevant.

The Regional Director will also consider all relevant materials within Reclamation's possession relating to IID's estimated water requirements. Reclamation is posting a bibliography of such information on its Web site at www.lc.usbr.gov/iid417.htm, and will update this bibliography as appropriate. Reclamation will post on that Web site all written information received or transmitted by the Regional Director or his staff in connection with this part 417 consultation. This information will be retained by Reclamation for use in future years.

Regional Director's Formulation of Recommendations and Determinations

After consideration of all relevant written information, comments and suggestions timely received, the Regional Director will formulate his recommendations and determinations regarding IID's estimated water requirements for 2003 according to the factors in 43 CFR 417.3, to the end that deliveries of Colorado River water to IID will not exceed those reasonably required for beneficial consumptive use. The time taken for this analysis will depend on the issues raised. It is anticipated that this process will conclude approximately 25 days after the close of the time period for receipt of relevant written information, comments and suggestions.

The Regional Director will give IID written notice of his recommendations and determinations by registered or certified mail, return receipt requested, as well as by fax, and will post his recommendations and determinations on the www.lc.usbr.gov/iid417.htm Web site. If the recommendations and determinations include a reduction in the amount of water to be delivered, as compared to calendar year 2002, the notice shall specify the basis for such reduction and include any pertinent factual determinations.

Opportunity for Any Potential Objections by IID and Potential Request for Further Consultation

The Regional Director's recommendations and determination shall be final unless, within 30 days of the date of receipt of the notice, IID submits its written comments and objections to the Regional Director and requests further consultation.

Potential Reconsideration by Regional Director

The Regional Director will consider any written comments and objections, if any, and conduct further consultation by reviewing and considering any written submissions by IID. On the basis of this review, the Regional Director will determine whether or not to modify his recommendations and determinations. The time for analysis depends on the issues raised. It is anticipated that the analysis would be completed within 15 days.

Notification of Regional Director's Final Determination

The Regional Director will send by fax notification his determination regarding any written comments and objections by IID and will post the determination on the Web site at www.lc.usbr.gov/iid417.htm.

Potential Appeal to the Secretary of the Interior

If the Regional Director does not modify his initial decision, or if modifications are made but IID still feels aggrieved, IID may file an appeal with the Secretary of the Interior within 30 days after receipt of the fax notification of the Regional Director's determination.

Final Determination by the Secretary of the Interior

The Secretary of the Interior will make a final determination of any appeal by IID. The time for analysis will depend on the issues raised. It is anticipated that the analysis will be complete within three weeks.

Dated: April 23, 2003.
Robert W. Johnson,
Regional Director, Lower Colorado Region, U.S. Bureau of Reclamation.

[FR Doc. 03-10562 Filed 4-28-03; 8:45 am]

BILLING CODE 4310-MN-P